DEPARTMENT OF COMMERCE

National Oceanic and Atmospheric Administration

15 CFR Part 922

Initiation of Review of Management Plan and Regulations of the Monterey Bay National Marine Sanctuary; Intent To Conduct Scoping and Prepare Draft Environmental Impact Statement and Management Plan; Correction

AGENCY: Office of National Marine Sanctuaries (ONMS), National Ocean Service (NOS), National Oceanic and Atmospheric Administration (NOAA), Department of Commerce (DOC).

ACTION: Correction.

SUMMARY: On August 27, 2015, NOAA published a notice of intent in the Federal Register (80 FR 51973) to initiate public scoping for the management plan review for Monterey Bay National Marine Sanctuary (MBNMS). This notice alerts the public of the addition of a public scoping meeting in Half Moon Bay on October 14, 2015. It also makes a correction to the docket number for submission of public comments on the online rulemaking portal at www.regulations.gov. The correct docket number is NOAA-NOS-2015-0099. The end of the scoping period remains October 30, 2015.

DATES: NOAA will accept public comments on the notice of intent published at 80 FR 51973 (August 27, 2015) through October 30, 2015. Locations and dates for public scoping meetings remain the same as described in the notice of intent, with the addition of a meeting on October 14, 2015 from 6 p.m. to 8 p.m. at the Half Moon Bay Yacht Club in Half Moon Bay, CA.

ADDRESSES: You may submit comments on this document, identified by NOAA-NOS-2015-0099, by any of the following methods:

• Electronic Submission: Submit all electronic public comments via the Federal e-Rulemaking Portal. Go to www.regulations.gov/#!docketDetail;D=NOAA-NOS-2015-0099, click the “Comment Now!” icon, complete the required fields, and enter or attach your comments.

• Mail: 99 Pacific Street, Bldg. 455A, Monterey, California 93940, Attn: Paul Michel, Superintendent.

Instructions: Comments sent by any other method, to any other address or individual, or received after the end of the comment period, may not be considered by NOAA. All comments received are a part of the public record and will generally be posted for public viewing www.regulations.gov without change. All personal identifying information (e.g., name, address, etc.), confidential business information, or otherwise sensitive information submitted voluntarily by the sender will be publicly accessible. NOAA will accept anonymous comments (enter “N/A” in the required fields if you wish to remain anonymous). Attachments to electronic comments will be accepted in Microsoft Word, Excel, or Adobe PDF file formats only.

FOR FURTHER INFORMATION CONTACT: Dawn Hayes, 831.647.4256, mbnmsmanagementplan@noaa.gov.

SUPPLEMENTARY INFORMATION:

On August 27, 2015, NOAA published a notice of intent in the Federal Register (80 FR 51973) to initiate public scoping for the management plan review for Monterey Bay National Marine Sanctuary (MBNMS). In that notice, the docket number for submitting comments on the online rulemaking portal at www.regulations.gov was incorrect. The correct docket number is NOAA-NOS-2015-0099. This notice makes a correction to the docket number for the online submission of public comments.

In addition, this notice alerts the public that NOAA will hold a fourth public scoping meeting in addition to the three meetings listed in the August 27, 2015 notice (80 FR 51973). The fourth meeting will be held at the Half Moon Bay Yacht Club in Half Moon Bay, CA on October 14, 2015 from 6 p.m. to 8 p.m.

Authority: 16 U.S.C. 1431 et seq.; 16 U.S.C. 470.

Dated: September 9, 2015.
John Armor,
Acting Director, Office of National Marine Sanctuaries.

[FR Doc. 2015-23417 Filed 9-16-15; 8:45 am]

BILLING CODE 3510-NK-P